FEDERAL COMMUNICATIONS COMMISSION

[MB Docket No. 11-43; DA 18-42]

Video Description: Preliminary Nonbroadcast Network Rankings

AGENCY: Federal Communications Commission.

ACTION: Notice.

SUMMARY: FCC announces the top national nonbroadcast network rankings from the 2016-2017 ratings year, and gives networks the opportunity to seek exemption from the July 1, 2018 update to the Commission's video description requirements.

DATES: Published January 12, 2018. Exemption requests are due March 9, 2018.

ADDRESSES: Filings should be submitted electronically in MB Docket No. 11-43 by accessing the Commission's Electronic Comment Filing System (ECFS) at https://www.fcc.gov/ecfs/. Filers should follow the instructions provided on the website for submitting filings. The full text of this public notice is available for public inspection and copying during regular business hours in the FCC Reference Center, Federal Communications Commission, 445 12th Street SW, CY-A257, Washington, DC 20554. These documents will also be available via ECFS (http://www.fcc.gov/cgb/ecfs/). (Documents will be available electronically in ASCII, Word 97, and/or Adobe Acrobat.) The complete text may be purchased from the Commission's copy contractor, 445 12th Street SW, Room CY-B402, Washington, DC 20554. To request these documents in accessible formats (computer diskettes, large print, audio recording, and Braille), send an email to fcc504@fcc.gov or call the Commission's Consumer and Governmental Affairs Bureau at (202) 418-0530 (voice), (202) 418-0432 (TTY).

FOR FURTHER INFORMATION CONTACT: For further information, contact Lyle Elder (202-418-2120; Lyle.Elder@fcc.gov).

SUPPLEMENTARY INFORMATION: Video description makes video programming accessible to individuals who are blind or visually impaired through “[t]he insertion of audio narrated descriptions of a television program's key visual elements into natural pauses between the program's dialogue.” As of July 1, 2018, the Commission's video description rules will require multichannel video programming distributor (“MVPD”) systems that serve 50,000 or more subscribers to provide 87.5 hours of video description per calendar quarter on channels carrying each of the top five national nonbroadcast networks. The rule requires that 50 hours per calendar quarter be provided in prime-time or during children's programming, while the additional 37.5 hours may be provided at any time between 6 a.m. and 11:59 p.m. local time. The top five national nonbroadcast networks are defined by an average of the national audience share during prime time of nonbroadcast networks that reach 50 percent or more of MVPD households and have at least 50 hours per quarter of prime time programming that is not live or near-live or otherwise exempt under the video description rules. The nonbroadcast networks currently subject to the video description requirements are USA, TNT, TBS, History, and the Disney Channel.

In accordance with the Commission's rules, the list of top five nonbroadcast networks will update at three year intervals to account for changes in ratings, and the second triennial update will occur on July 1, 2018, based on the 2016 to 2017 ratings year. According to data provided by the Nielsen Company, the top ten nonbroadcast networks for the 2016 to 2017 ratings year are: Fox News, ESPN, USA, MSNBC, HGTV, TBS, Discovery, History, Hallmark, and TNT.

If a program network believes it should be excluded from the list of top five networks covered by the video description requirements because it does not air at least 50 hours of prime time programming that is not live or near-live or is otherwise exempt, it must seek an exemption no later than 30 days after publication of this Public Notice in the Federal Register. The Media Bureau will promptly evaluate requests for exemption and will provide notice of any resulting revisions to the list.

Federal Communications Commission.
Thomas Horan,
Chief of Staff, Media Bureau.

[FR Doc. 2018-02471 Filed 2-6-18; 8:45 am]

BILLING CODE 6712-01-P